DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of November 30 through December 11, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) The workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-72,826; Alleson of Rochester, Inc., Athletic Apparel Manufacturing, Geneva, NY: November 9, 2008.

TA-W-70,379; The Stanley Works, Leased Workers from TAC Worldwide, New Britain, CT: May 20, 2008.

TA-W-70,412; iLevel, Dallas, OR: May 18, 2008.

TA-W-70,437; Circuit Science, Inc., Plymouth, MN: May 20, 2008.

TA-W-71,875; Kaiser Foundation Hospitals, KP-IT, Walnut Creek, CA: July 29, 2008.

TA-W-72,650; TI Group Automotive Systems, Winchester, KY: October 21, 2008.

TA-W-70,042; Crosby National Swage, First Staff, Hughes Agency, Staff Mark Agency, Jacksonville, AR: May 18, 2008.

TA-W-70,079; Aetrium Corporation, Leased Workers From Aerotek and Logic, North St. Paul, MN: May 18, 2008.

TA-W-70,170; Emporium Hardwoods, LLC, Leased Workers of Employment Solutions, Inc., Emporium, PA: April 21, 2008.

TA-W-70,174; D.R. Johnson Lumber Company, Riddle, OR: May 18, 2008.

TA-W-70,248; BorgWarner Turbos, BorgWarner, Inc./Turbo & Emission Systems Div. Adecco, Arden, NC: May 19, 2008.

TA-W-70,324A; Delphi Packard Electrical/Electronic Architecture, Delphi Corporation, Leased Workers from Bartech, Rootstown, OH: May 19, 2008.

TA-W-70,324B; Delphi Packard Electrical/Electronic Architecture, Delphi Corporation, Leased Workers from Bartech, Vienna, OH: May 19, 2008.

TA-W-70,324C; Delphi Packard Electrical/Electronic Architecture, Delphi Corporation, Leased Workers from Bartech, Howland, OH: May 19, 2008.

TA-W-70,324D; Delphi Packard Electrical/Electronic Architecture, Delphi Corporation/Leased Workers from Bartech, Cortland, OH: May 19, 2008.

TA-W-70,324; Delphi Packard Electrical/Electronic Architecture, Delphi Corporation, Leased Workers From Bartech, Warren, OH: May 19, 2008.

TA-W-70,327; SAPA Fabricated Products, SAPA Inc., Leased Workers of Manpower Temporary Services, Magnolia, AR: May 18, 2009.

TA-W-70,373; Eaton Hydraulics, Greenwood, SC: May 19, 2008.

TA-W-70,443; Fleetwood Industries, Inc., New Production Introduction Assembly Division, Leesport, PA: May 18, 2008.

TA-W-70,507; Oregon Metallurgical Corporation, Express Personnel Services, Albany, OR: May 18, 2008.

TA-W-70,723; OFS Brands Holdings, Inc., Huntingburg, IN: May 24, 2008.

TA-W-70,903; Severstal Warren, Inc., Warren, OH: June 1, 2008.

TA-W-70,974; Watry Industries LLC, Leased Workers of Seek Staffing, Sheboygan, WI: May 21, 2008.

TA-W-71,048; Warren Corporation, Leased Workers from Point Staffing Services, Stafford Springs, CT: June 5, 2008.

TA-W-71,171; Cargill, Inc., Corn Milling North America Division, Decatur, AL: June 10, 2008.

TA-W-71,320; Eck Industries, Inc., Consumers, Inc., Seek Careers Staffing, Manitowoc, WI: June 12, 2008.

TA-W-71,411; P and M Industries, Inc., Thorofare, NJ: June 23, 2008.

TA-W-71,416; Kennametal, Inc., MSSG, Leased Workers from Kelly Services, Bentonville, AR: June 25, 2008.

TA-W-71,427; Modern Industries, Inc., Machining Division, Leased Workers Adecco Technical, Advanced Placement, Erie, PA: June 26, 2008.

TA-W-71,618; Volvo Trucks North America, New River Valley Plant, Dublin, VA: July 9, 2008.

TA-W-71,859; Faribault Woolen Mill Company, Faribault, MN: July 29, 2008.

TA-W-72,017; MGP Ingredients, Inc., Pekin, IL: August 11, 2008.

TA-W-72,050; Automotive Components Holdings, LLC, Ford Motor Company, Visteon, MSX, Ford Motor, Sandusky, OH: August 14, 2008.

TA-W-72,279; GES US New England, Inc., Venture Corp, Lowell, MA: September 9, 2009.

TA-W-72,624; Impress USA, Inc., North America, Weirton, WV: October 15, 2008.

TA-W-71,255; Flextronics, Global Services Division, Louisville, KY: June 3, 2008.

TA-W-70,141; McMurray Fabrics, Inc., Aberdeen, NC: May 18, 2008.

TA-W-71,626; Robinson Steel, Granite City, IL: July 8, 2008.

TA-W-70,335; Milliken and Company, Hatch Plant, Columbus, NC: May 19, 2008.

TA-W-71,116; Russell Brands, LLC, Fabrics Division/Fruit of the Loom, Alexander City, AL: May 18, 2008.

TA-W-71,319; Occidental Chemical Corporation, James H. Adams and Son Construction Co., Mobile, AL: June 18, 2008.

TA-W-72,381; Grand Model Garment, Inc., New York, NY: September 21, 2008.

TA-W-72,772; Narrow Fabric Industries Corporation, Cheynet Group/Leased Workers from Berks and Beyond, West Reading, PA: January 27, 2009.

The following certifications have been issued. The requirements of Section 222(a)(2)(B) (shift in production or services) of the Trade Act have been met.

TA-W-70,115; Senco Bands, Inc., FKA Senco Products, Inc./Manpower, Inc. & Express Personnel, Cincinnati, OH: May 18, 2008.

TA-W-70,392; Cleveland Casting Plant, Cleveland, OH: May 20, 2008.

TA-W-70,438; Durr Systems, Inc., Durr Ag/Leased Workers from PDS Services, A. Bose, Inc. BV Technologies, Plymouth, MI: May 18, 2008.

TA-W-70,733; Federal Mogul Corporation, Systems Protection Group, Exton, PA: May 23, 2009.

TA-W-70,924; Dawn Food Products, Inc., Ossian, IN: May 26, 2008.

TA-W-71,170; Corning, Inc., Leased Workers from Adecco, Pro Unlimited, Piedmont Prime Care, Danville, VA: June 10, 2008.

TA-W-71,196A; Invensys Process Systems, Leased Workers From CDI Corporation, Irvine, CA: June 11, 2008.

TA-W-71,196; Invensys Process Systems, Leased Workers From CDI Corporation, Foxboro, MA: June 11, 2008.

TA-W-71,242; BAE Systems Controls, Inc., Leased Workers of Aerotek and Superior Technical Resources, Irving, TX: June 15, 2008.

TA-W-71,554; International Automotive Components Huron, LLC, Huron, OH: June 14, 2008.

TA-W-71,594; Flextronics International LTD, Leased Workers from Aerotek, Austin, TX: July 8, 2008.

TA-W-71,739; Zippo Manufacturing Company, Bradford, PA: July 15, 2008.

TA-W-71,763; Acushnet Company, Fortune Brands, Leased Workers from Olsten Staffing Services, Fairhaven, MA: July 21, 2008.

TA-W-71,811; Ficosa North America, Leased Workers from Atwork Cumberland Staffing Agency, Crossville, TN: July 24, 2008.

TA-W-71,842; Honeywell International, Electronic Materials Division, Sunnyvale, CA: July 21, 2008.

TA-W-71,880; Brooks Automation, Inc., Extended Factory Division, Leases Workers from ESM, Express Personnel, Portland, OR: July 30, 2008.

TA-W-71,882; Alcoa, Inc.—Reynolds Metals Company, Leased Workers from Icon Consultants and Headway Corp. Staffing, Massena, NY: July 30, 2008.

TA-W-71,926; Honeywell International, Consumer Products Group, Fostoria, OH: September 8, 2009.

TA-W-72,056; The ESAB Group Inc., Olstein Staffing, Florence, SC: August 17, 2008.

TA-W-72,134; Winchester Lamp Plant, General Electric Company, Leased Workers from Diversco Janitorial Services, Winchester, VA: August 19, 2008.

TA-W-72,234; Rieter Automotive Systems, North American Automotive Division, Lowell, IN: September 4, 2008.

TA-W-72,261; Coopervision, Cooper Companies, Leased Workers from Reliance Temporary Staffing, Norfolk, VA: September 9, 2008.

TA-W-72,348; Cooper Wiring Devices, Maine Operations/Leased Workers from Bonney Staffing and Adecco, Brunswick, ME: September 17, 2008.

TA-W-72,403; Faradyne Motors, LLC, Kelly Services and Remedy Staff, Newark, NY: June 21, 2009.

TA-W-72,421; Karl Schmidt Unisia, Inc., Fort Wayne, IN: September 25, 2008.

TA-W-72,538; Visteon Eureka VCRAM, LLC, Interior Division, Visteon Corporation, Leased Workers from Aerotek, Eureka, MO: October 7, 2008.

TA-W-72,577; Springfield Wire, Inc., Springfield, MA: December 6, 2009.

TA-W-72,589; SKC HAAS Display Films LLC, A Joint Venture with DOW Chemical/Leased Workers of Diversco Integrated Services, Rochester, NY: October 14, 2008.

TA-W-72,595; Boyd Corporation, Portland Div., Employment Trends and Staffmark, Portland, OR: October 13, 2008.

TA-W-72,599; Pradco, Inc., Fishing Division/Kelly Services and First Staff Central, Ft. Smith, AR: October 14, 2008.

TA-W-72,730; Gateway Corporation, Corinth, MS: October 27, 2008.

TA-W-72,768; Solid State Measurements, Inc., Semilab Semiconduction Physics, Leased Workers From Oxford Solutions, Pittsburgh, PA: November 3, 2008.

TA-W-72,785; Beneteau USA, Inc., Marion, SC: November 2, 2008.

TA-W-72,866; Nova Controls, Inc., Hydro Controls/Leased Workers of Manpower and Kelly Services, Watsonville, CA: November 12, 2008.

TA-W-72,871A; D&E Trucking, Orleans Furniture, Inc., Columbia, MS: November 10, 2008.

TA-W-72,871; Orleans Furniture, Inc., Columbia, MS: November 10, 2008.

TA-W-72,898; Modine Manufacturing Company, Nesco Service, Adecco, Belcan HR Affiliates, CBS, JC, Harrodsburg, KY: November 18, 2008.

TA-W-72,914; Cummins Filtration, Allegis, Manpower and DP Personnel, Cookeville, TN: November 16, 2008.

TA-W-72,938; Schneider Electric, North American Operating Div., Leased Workers from Volt Services and Adecco, Seneca, SC: November 23, 2008.

TA-W-71,005; Vision Plastics-Gardner Bender, Leased Workers of Enterforce, San Diego, CA: June 3, 2008.

TA-W-71,945; Rainbow Play Systems, Inc., Brookings, SD: August 6, 2008.

TA-W-71,949; Oberg Industries, Inc., Adecco Employment Service, Specialized Staff, Venture, Freeport, PA: August 6, 2008.

TA-W-72,059; Quebecor World, Premedia Division, New York, NY: August 16, 2008.

TA-W-72,155; McKinney Products Company, ASSA Abloy, Scranton, PA: May 15, 2009.

TA-W-72,305; Rave Sports, Inc., Lebanon, MO: September 14, 2008.

TA-W-72,657; Hilton Reservations and Customer Care, A Subsidiary of Hilton Worldwide, Hazleton, PA: October 19, 2008.

TA-W-70,032; Mega Brands America, Inc., Formerly Known as Rose Art Ind., Leased Workers from Ajilon Professional, Livingston, NJ: May 18, 2008.

TA-W-71,373; IBM, Learning and Knowledge Group, Chicago, IL: June 22, 2008.

TA-W-71,972; Agility Logistic, SNA Division, Connections Personnel, Sedona, Santa Ana, CA: July 15, 2008.

TA-W-72,339; Eastman Kodak Company, Finance & Accounting Div., Adecco, Dayton, OH: September 16, 2008.

TA-W-72,512; Hewlett Packard, HRGO/US—PSG Desktop & Notebook GBUs, W. Houston, TX: September 30, 2008.

TA-W-72,544; Sonoco Products Company, Packaging Services Division, Leased Workers of Debbie's Staffing, Accountemps, Devens, MA: October 6, 2008.

TA-W-72,578; Agilent Technologies, Inc., Technology and Service Organization, Leased Workers Timmsen Consulting, Santa Rosa, CA: October 6, 2008.

TA-W-72,668; AEES Power System LP, Customer Service, Engineering, and Design Depts./Leased Workers of Aerotek, Farmington Hills, MI: October 20, 2008.

TA-W-72,791; Siemens Industry, Inc., Industrial Automation Division, Spring House, PA: November 5, 2008.

TA-W-70,525A; Yahoo Inc., Finance Division/Leased Workers from Workforce Logic, Burbank, CA: May 18, 2008.

TA-W-70,525B; Yahoo Inc., Finance Division/Leased Workers from Workforce Logic, Santa Clara, CA: May 18, 2008.

TA-W-70,525; Yahoo Inc., Finance Division/Leased Workers from Workforce Logic, Sunnyvale, CA: May 18, 2008.

TA-W-70,963; Delaware Valley Financial Services, Allianz Life Insurance Company of North America, Berwyn, PA: May 19, 2008.

TA-W-72,439; GlaxoSmithKline, Knowledge Management Division, Parsippany, NJ: September 28, 2008.

TA-W-72,686; Citicorp North America, Inc., ACASH Division/Leased Workers of Randstad, Fort Lauderdale, FL: October 16, 2008.

TA-W-72,923A; Carhartt, Inc., Glasgow Distribution Center, Glasgow, KY: November 20, 2008.

TA-W-72,923; Carhartt, Inc., Glasgow Sortation Facility, Glasgow, KY: November 20, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-70,420; Milliken and Company, Abbeville Plant, Automotive Division, Abbeville, SC: May 19, 2008.

TA-W-71,764; Manter Technologies Corp., Marine City, MI: June 12, 2008.

TA-W-70,036; Ferro Corporation, Porcelain Enamel Coatings Division, Cleveland, OH: May 18, 2008.

TA-W-70,076; Ryerson, Inc., Nashville, TN: May 18, 2008.

TA-W-70,167; Melampy Manufacturing Company, Wabec and Standard Car Truck/Leased Workers from Alternative Staffing, Gibsonia, PA: May 18, 2008.

TA-W-70,531; Consolidated Metco, Inc., Plastics Division, Bryson City, NC: May 21, 2008.

TA-W-70,626; Steel Forming, DBA Commercial Metal Forming, Youngstown, OH: May 4, 2008.

TA-W-71,066; North American Hoganas, Inc., Leased Workers from Manpower and Kelly Services, Hollsopple, PA: June 8, 2008.

TA-W-71,233; Advance Accessory System, Shelby, MI: June 5, 2008.

TA-W-71,237; Phillips Plastics Corp, Custom Div., Manpower, Phillips, WI: June 2, 2008.

TA-W-71,412; HTT Inc., Leased Workers from Staffing Answers, Sheboygan Falls, WI: June 24, 2008.

TA-W-71,522; Coldform, Inc., Terryville, CT: July 2, 2008.

TA-W-71,599; Toyotetsu Mid America, Leased Workers from Malone Staffing, Owensboro, KY: July 7, 2008.

TA-W-71,688; Friction Holdings, LLC, Drivetrain Group Holding Corp., Crawfordsville, IN: July 13, 2008.

TA-W-72,015; Illinois Steel Service, Inc., Chicago, IL: August 12, 2008.

TA-W-72,178; Mullen Industries, St. Clair, MO: August 31, 2008.

TA-W-72,278; Sabic Innovative Plastics US, LLC, Washington, WV: September 9, 2008.

TA-W-72,307; Toyotetsu America, Inc., Toyoda Iron Works Company, JC Malone Associates, Somerset, KY: September 14, 2008.

TA-W-70,363; TRW Automotive, LLC, Electronics Engineering Division, Leased Workers from Adecco Engineering, Farmington Hills, MI: May 19, 2008.

TA-W-70,484; Virage Logic Corporation, Leased Workers from Office Team and Patni Computer Systems Ltd., Hampton, NJ: May 20, 2008.

TA-W-70,943; Kenco Logistic Services, LLC, Remedy Intelligent and Omnisource Staffing, Lexington, KY: June 3, 2008.

TA-W-71,025; Canon USA, Inc., Semiconductor Equipment Division, Boise, ID: June 2, 2008.

TA-W-71,061; Elkay Manufacturing Company, Corporate Headquarters, Leased Workers of Accountemps, Oak Brook, IL: June 8, 2008.

TA-W-71,812; Sigmatron International, Inc., Snelling Personnel Services and Team Force Staffing, Hayward, CA: July 24, 2008.

The following certifications have been issued. The requirements of Section 222(c) (downstream producer for a firm whose workers are certified eligible to apply for TAA) of the Trade Act have been met.

None.

The following certifications have been issued. The requirements of Section 222(f) (firms identified by the International Trade Commission) of the Trade Act have been met.

TA-W-72,820; Maverick Tube LLC, DBA Tenaris Counce, Counce, TN: November 24, 2009.

TA-W-72,821; Maverick Tube LLC, DBA Texas Arai, Houston, TX: November 24, 2007.

TA-W-72,822; Maverick Tube, LLC, DBA TenairsConroe, Conroe, TX: November 24, 2007.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-70,646; Tenneco, Inc., Corporate Engineering Center, Grass Lake, MI.

TA-W-71,281; International Automotive Components Group North America, Troy, MI.

The investigation revealed that the criteria under paragraphs (a)(2)(A)(i) (decline in sales or production, or both) and (a)(2)(B) (shift in production or services to a foreign country) of section 222 have not been met.

TA-W-70,646; Tenneco, Inc., Corporate Engineering Center, Grass Lake, MI.

TA-W-71,281; International Automotive Components Group North America, Troy, MI.

The investigation revealed that the criteria under paragraphs (a)(2)(A) (increased imports) and (a)(2)(B) (shift in production or services to a foreign country) of section 222 have not been met.

TA-W-70,223; Eaton Aeroquip, Inc., Mountain Home, AR.

TA-W-70,294; Quala-Die, Inc., St. Marys, PA.

TA-W-70,302; Pilgrims Pride, Leased Workers of PSSI, Farmerville, LA.

TA-W-70,305; Shorewood Packaging, A Business Unit of International Paper, Springfield, OR.

TA-W-70,346; Nabors Drilling USA, LP, Fruita, CO.

TA-W-70,395; Dawson Metal Company, Inc., Industrial Division, Jamestown, NY.

TA-W-70,618A; Shadowline Sales Inc., Shadowline, Inc., Myrtle Beach, SC.

TA-W-70,618B; Shadowline Sales Inc., Shadowline, Inc., Pigeon Forge, TN.

TA-W-70,618; Shadowline Sales Inc., Shadowline, Inc., St. Augustine, FL.

TA-W-70,705; Watertronics, LLC, Hartland, WI.

TA-W-70,732; Pilgrims Pride Corporation, Clinton, AR.

TA-W-70,755; Pilgrims Pride Corporation, Wilstaff, Eldorado, AR.

TA-W-70,783; T and S Hardwoods, Inc., Sylva, NC.

TA-W-70,967; Gerstenslager Company, Worthington Industries, Automotive Stamping Div., Wooster, OH.

TA-W-70,987A; Red Oak Die Casting, Quad Cast, Inc., Red Oak, IA.

TA-W-70,987; Quad City Die Casting, Inc, Moline, IL.

TA-W-71,230; Monaco Coach Corporation, N/K/S MNC Corporation, Coburg, OR.

TA-W-72,041; Aleris Blanking and Rim Products, Inc., Division of Aleris International, Inc., Terre Haute, IN.

TA-W-70,052A; Transfreight, LLC, Mitsui & Co., Ltd, Brownstown, MI.

TA-W-70,052; Transfreight, LLC, Mitsui & Co., Ltd, Princeton, IN.

TA-W-70,333; URS Corporation, URS Division/East 3 Regional Business Unit, Grand Rapids, MI.

TA-W-70,343; WuXi AppTec, Inc., Biological Manufacturing, Leased Workers from Aerotek, Philadelphia, PA.

TA-W-70,349; Trane, Residential Systems Division, Fort Smith, AR.

TA-W-70,482; Source Providers, Inc.—Comprehensive Logistics, Inc., Lansing, MI.

TA-W-70,541; Samuel Aaron, Inc., Long Island City, NY.

TA-W-70,585; Johnson Control, Inc., Rockwood, MI.

TA-W-70,772; United Airlines, Inc., Seattle-Tacoma Int'l Airport Line Maintenance Division, Seattle, WA.

TA-W-71,042; Pacific Rail Services, LLC, Seattle, WA.

TA-W-71,275; United Airlines, Inc., Portland Airport Line Maintenance Division, Portland, OR.

TA-W-71,301; Blazing Color, Bloomington, MN.

TA-W-71,325; Smartparts, Inc., Totowa, NJ.

TA-W-71,550; IBM Corporation, Global Technology Services Division, Chicago, IL.

TA-W-71,559; Gresham Chrysler—Jeep, Inc., Gresham, OR.

TA-W-71,579; United Airlines, Inc., Jamaica, NY.

TA-W-71,723; United Airlines, Inc., O'Hare International Airport Line Maintenance Division, Chicago, IL.

TA-W-71,989; United Airlines, Inc., Newark Int'l Airport Line Maintenance Division, Newark, NJ.

TA-W-71,990; United Airlines, Inc., La Guardia Airport Line Maintenance Division, Flushing, NY.

TA-W-72,216; Gwynn Lumber and Reload, Inc., Eureka, MT.

TA-W-72,499; Hamilton Fairfield Dodge Jeep, Hamilton, OH.

TA-W-72,527; Saturn of Green Bay, Inc., Green Bay, WI.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

TA-W-70,130; Pilgrims Pride Corp, Atkins, AR.

I hereby certify that the aforementioned determinations were issued during the period of November 30 through December 11, 2009. Copies of these determinations are available for inspection in Room N-5428, U.S. Department of Labor, 200 Constitution Avenue, NW., Washington, DC 20210 during normal business hours or will be mailed to persons who write to the above address.

Dated: January 15, 2010.
Elliott S. Kushner,
Certifying Officer, Division of Trade Adjustment Assistance.

[FR Doc. 2010-1311 Filed 1-22-10; 8:45 am]

BILLING CODE 4510-FN-P